DEPARTMENT OF HOMELAND SECURITY

Coast Guard

33 CFR Part 117

[CGD05-07-018]

RIN 1625-AA-09

Drawbridge Operation Regulations; Susquehanna River, at Havre de Grace, MD

AGENCY: Coast Guard, DHS.

ACTION: Notice of temporary deviation from regulations.

SUMMARY: The Commander, Fifth Coast Guard District, has approved a temporary deviation from the regulations governing the operation of the National Railroad Passenger Corporation (AMTRAK) Bridge, at mile 1.0, across Susquehanna River at Havre de Grace, Maryland. This deviation allows the drawbridge to remain closed-to-navigation beginning at 6 p.m. on March 30, 2007, until and including 6 p.m. on June 8, 2007, to facilitate structural repairs.

DATES: This deviation is effective from 6 p.m. on March 30, 2007, until 6 p.m. on June 8, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Bill H. Brazier, Bridge Management Specialist, Fifth Coast Guard District, at (757) 398-6422.

SUPPLEMENTARY INFORMATION: The AMTRAK Bridge, a swing-type drawbridge, has a vertical clearance in the closed position to vessels of 52 feet, above mean high water.

AMTRAK, the bridge owner, has requested a temporary deviation from the current operating regulation set out in 33 CFR 117.575 and to close the drawbridge to navigation to perform needed structural repairs.

The repairs will include the renewal of 3,184 bridge timbers as well as the installation of new rail and expansion joints. To facilitate this work, the AMTRAK Bridge will be maintained in the closed-to-navigation position beginning at 6 p.m. on March 30, 2007, until and including 6 p.m. on June 8, 2007.

The Coast Guard has informed the known users of the waterway of the closure periods for the bridge so that these vessels can arrange their transits to minimize any impact caused by the temporary deviation.

In accordance with 33 CFR 117.35(e), the drawbridge must return to its regular operating schedule immediately at the end of the designated time period.

This deviation from the operating regulations is authorized under 33 CFR 117.35.

Dated: February 28, 2007.
Waverly W. Gregory, Jr.,
Chief, Bridge Administration Branch, Fifth Coast Guard District.

[FR Doc. E7-4215 Filed 3-8-07; 8:45 am]

BILLING CODE 4910-15-P